DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-1956) | City of Buckeye (19-09-0337P). | The Honorable Jackie A. Meck, Mayor, City of Buckeye, 530 East Monroe Avenue, Buckeye, AZ 85326. | Engineering Department, 530 East Monroe Avenue, Buckeye, AZ 85326. | Nov. 22, 2019 | 040039
Maricopa (FEMA Docket No.: B-1960) | City of Mesa (19-09-0940P). | The Honorable John Giles, Mayor, City of Mesa, P.O. Box 1466, Mesa, AZ 85211. | City Hall, Engineering Department, 20 East Main Street #500, Mesa, AZ 85201. | Dec. 30, 2019 | 040048
Maricopa (FEMA Docket No.: B-1956) | Town of Fountain Hills (18-09-2286P). | The Honorable Ginny Dickey, Mayor, Town of Fountain Hills, 16705 East Avenue of The Fountains, Fountain Hills, AZ 85268. | Town Hall, 16705 East Avenue of The Fountains, Fountain Hills, AZ 85268. | Nov. 29, 2019 | 040135
Pima (FEMA Docket No.: B-1953) | City of Tucson (19-09-0058P). | The Honorable Jonathan Rothschild, Mayor, City of Tucson, City Hall, 255 West Alameda Street, 10th Floor, Tucson, AZ 85701. | Planning and Development Services, Public Works Building, 201 North Stone Avenue, Tucson, AZ 85701. | Nov. 18, 2019 | 040076
Pima (FEMA Docket No.: B-1953) | Unincorporated Areas of Pima County (19-09-0058P). | The Honorable Richard Elias, Chairman, Board of Supervisors, Pima County, 130 West Congress Street, 11th Floor, Tucson, AZ 85701. | Pima County Flood Control District, 201 North Stone Avenue, 9th Floor, Tucson, AZ 85701. | Nov. 18, 2019 | 040073
Santa Cruz (FEMA Docket No.: B-1960) | Unincorporated Areas of Santa Cruz County (19-09-1888P). | The Honorable Rudy Molera, Chairman, Board of Supervisors, Santa Cruz County, 2150 North Congress Drive, Nogales, AZ 85621. | Santa Cruz County Flood Control District, Gabilondo-Zehentner Building, 275 Rio Rico Drive, Rio Rico, AZ 85648. | Dec. 16, 2019 | 040090
California:
Kern (FEMA Docket No.: B-1960) | City of Delano (17-09-2119P). | The Honorable Joe E. Aguirre, Mayor, City of Delano, 1015 11th Avenue, Delano, CA 93215. | Community Development, 1015 11th Avenue, Delano, CA 93215. | Dec. 12, 2019 | 060078
Kern (FEMA Docket No.: B-1960) | Unincorporated Areas of Kern County (17-09-2119P). | The Honorable David Couch, Chairman, Board of Supervisors, Kern County, 1115 Truxtun Avenue, 5th Floor, Bakersfield, CA 93301. | Kern County Planning Department, 2700 M Street, Suite 100, Bakersfield, CA 93301. | Dec. 12, 2019 | 060075
Napa (FEMA Docket No.: B-1953) | Unincorporated Areas of Napa County (18-09-1735P). | The Honorable Ryan Gregory, Chairman, Board of Supervisors, Napa County, 1195 3rd Street, Suite 310, Napa, CA 94559. | Napa County, Public Works Department, 1195 3rd Street, Suite 101, Napa, CA 94559. | Nov. 4, 2019 | 060205
Orange (FEMA Docket No.: B-1953) | City of Fountain Valley (19-09-0812P). | The Honorable Steve Nagel, Mayor, City of Fountain Valley, 10200 Slater Avenue, Fountain Valley, CA 92708. | City Hall, 10200 Slater Avenue, Fountain Valley, CA 92708. | Nov. 15, 2019 | 060218
Orange (FEMA Docket No.: B-1953) | City of Huntington Beach (19-09-0812P). | The Honorable Erik Peterson, Mayor, City of Huntington Beach, 2000 Main Street, Huntington Beach, CA 92648. | City Hall, 2000 Main Street, Huntington Beach, CA 92648. | Nov. 15, 2019 | 065034
Orange (FEMA Docket No.: B-1953) | City of Westminster (19-09-0812P). | The Honorable Tri Ta, Mayor, City of Westminster, 8200 Westminster Boulevard, Westminster, CA 92683. | City Hall, 8200 Westminster Boulevard, Westminster, CA 92683. | Nov. 15, 2019 | 060237
Orange (FEMA Docket No.: B-1953) | Unincorporated Areas of Orange County (19-09-0812P). | The Honorable Lisa A. Bartlett, Chair, Board of Supervisors, Orange County, 333 West Santa Ana Boulevard, Santa Ana, CA 92701. | Orange County Flood Control Division, H.G. Osborne Building, 300 North Flower Street 7th Floor, Santa Ana, CA 92703. | Nov. 15, 2019 | 060212
Riverside (FEMA Docket No.: B-1956) | Agua Caliente Band of Cahuilla Indian Reservation (18-09-1802P). | The Honorable Jeff L. Grubbe, Chairman, Agua Caliente Band of Cahuilla Indians, 5401 Dinah Shore Drive, Palm Springs, CA 92264. | Tribal Administrative Office, Planning and Natural Resources, 5401 Dinah Shore Drive, Palm Springs, CA 92264. | Nov. 29, 2019 | 060763
Riverside (FEMA Docket No.: B-1956) | City of Cathedral City (18-09-1802P). | The Honorable Mark Carnevale, Mayor, City of Cathedral City, 68700 Avenida Lalo Guerrero, Cathedral City, CA 92234. | Engineering Department, 68700 Avenida Lalo Guerrero, Cathedral City, CA 92234. | Nov. 29, 2019 | 060704
Riverside (FEMA Docket No.: B-1956) | City of Lake Elsinore (19-09-0548P). | The Honorable Steve Manos, Mayor, City of Lake Elsinore, 130 South Main Street, Lake Elsinore, CA 92530. | Engineering Division, 130 South Main Street, Lake Elsinore, CA 92530. | Dec. 9, 2019 | 060636
Riverside (FEMA Docket No.: B-1956) | City of Palm Springs (18-09-1802P). | The Honorable Robert Moon, Mayor, City of Palm Springs, 3200 East Tahquitz Canyon Way, Palm Springs, CA 92262. | Public Works and Engineering Department, 3200 East Tahquitz Canyon Way, Palm Springs, CA 92262. | Nov. 29, 2019 | 060257
Riverside (FEMA Docket No.: B-1956) | City of Rancho Mirage (18-09-1802P). | The Honorable Iris Smotrich, Mayor, City of Rancho Mirage, 69825 Highway 111, Rancho Mirage, CA 92270. | City Hall, 69825 Highway 111, Rancho Mirage, CA 92270. | Nov. 29, 2019 | 060259
Riverside (FEMA Docket No.: B-1956) | City of Wildomar (19-09-0548P). | The Honorable Marsha Swanson, Mayor, City of Wildomar, 23873 Clinton Keith Road, Suite 201, Wildomar, CA 92595. | City Hall, 23873 Clinton Keith Road, Suite 201, Wildomar, CA 92595. | Dec. 9, 2019 | 060221
San Bernardino (FEMA Docket No.: B-1956) | City of San Bernardino (18-09-1543P). | The Honorable John Valdivia, Mayor, City of San Bernardino, 290 North D Street, San Bernardino, CA 92401. | City Hall, 290 North D Street, San Bernardino, CA 92401. | Nov. 22, 2019 | 060281
San Luis Obispo (FEMA Docket No.: B-1956) | City of San Luis Obispo (19-09-0399P). | The Honorable Heidi Harmon, Mayor, City of San Luis Obispo, 990 Palm Street, San Luis Obispo, CA 93401. | City Hall, 990 Palm Street, San Luis Obispo, CA 93401. | Nov. 14, 2019 | 060310
Santa Clara (FEMA Docket No.: B-1956) | City of San Jose (19-09-1253P). | The Honorable Sam Liccardo, Mayor, City of San Jose, 200 East Santa Clara Street, 18th Floor, San Jose, CA 95113. | Department of Public Works, 200 East Santa Clara Street Tower, 5th Floor, San Jose, CA 95113. | Dec. 3, 2019 | 060349
Santa Clara (FEMA Docket No.: B-1960) | City of Santa Clara (19-09-0759P). | The Honorable Lisa M. Gillmor, Mayor, City of Santa Clara, 1500 Warburton Avenue, Santa Clara, CA 95050. | Planning and Inspection Department, 1500 Warburton Avenue, Santa Clara, CA 95050. | Dec. 19, 2019 | 060350
Florida:
Clay (FEMA Docket No.: B-1953) | Unincorporated Areas of Clay County (19-04-3655P). | The Honorable Mike Cella, Chairman, Clay County Board of County Commissioners, P.O. Box 1366, Green Cove Springs, FL 32043. | Clay County, Public Works Department, 5 Esplanade Avenue, Green Cove Springs, FL 32043. | Nov. 22, 2019 | 120064
St. Johns (FEMA Docket No.: B-1953) | Unincorporated Areas of St. Johns County (19-04-2832P). | The Honorable Paul M. Waldron, Chair, Board of County Commissioners, St. Johns County Administration Building, 500 San Sebastian View, St. Augustine, FL 32084. | St. Johns County Permit Center, 4040 Lewis Speedway, St. Augustine, FL 32084. | Nov. 14, 2019 | 125147
St. Johns (FEMA Docket No.: B-1960) | Unincorporated Areas of St. Johns County (19-04-4306P). | The Honorable Paul M. Waldron, Chair, Board of County Commissioners, St. Johns County Administration Building, 500 San Sebastian View, St. Augustine, FL 32084. | St. Johns County Permit Center, 4040 Lewis Speedway, St. Augustine, FL 32084. | Dec. 19, 2019 | 125147
Walton (FEMA Docket No.: B-1949) | Unincorporated Areas of Walton County (19-04-0237P). | Mr. Trey Nick, District 4 Commissioner, 263 Chaffin Avenue, DeFuniak Springs, FL 32433. | Walton County Courthouse Annex, 47 North 6th Street, DeFuniak Springs, FL 32435. | Oct. 17, 2019 | 120317
Hawaii: Honolulu (FEMA Docket No.: B-1956) | City and County of Honolulu (18-09-2230P). | The Honorable Kirk Caldwell, Mayor, City and County of Honolulu, 530 South King Street, Room 306, Honolulu, HI 96813. | Honolulu City and County Department of Planning and Permitting, 650 South King Street, Honolulu, HI 96813. | Nov. 25, 2019 | 150001
Idaho:
Ada (FEMA Docket No.: B-1956) | City of Meridian (19-10-0285P). | The Honorable Tammy De Weerd, Mayor, City of Meridian, Meridian City Hall, 33 East Broadway Avenue, Suite 300, Meridian, ID 83642. | Public Works Department, 660 East Water Tower Lane, Meridian, ID 83642. | Nov. 22, 2019 | 160180
Canyon (FEMA Docket No.: B-1960) | City of Nampa (19-10-0247P). | The Honorable Debbie Kling, Mayor, City of Nampa, 411 3rd Street South, Nampa, ID 83651. | City Hall, 411 3rd Street South, Nampa, ID 83651. | Dec. 11, 2019 | 160038
Latah (FEMA Docket No.: B-1953) | City of Moscow (18-10-1024P). | The Honorable Bill Lambert, Mayor, City of Moscow, P.O. Box 9203, Moscow, ID 83843. | Paul Mann Building, 221 East 2nd Street, Moscow, ID 83843. | Nov. 20, 2019 | 160090
Latah FEMA Docket No.: B-1956) | Unincorporated Areas of Latah County (19-10-0327P) | Mr. Tom Lamar, Chairperson, Latah County Board of Commissioners, P.O. Box 8068, Moscow, ID 83843. | Latah County Courthouse, 522 South Adams Street, Moscow, ID 83843. | Dec. 5, 2019 | 160086
Illinois:
DuPage (FEMA Docket No.: B-1971) | City of Warrenville (19-05-2162P). | The Honorable David L. Brummel, Mayor, City of Warrenville, 28W701 Stafford Place, Warrenville, IL 60555. | City Hall, 28W701 Stafford Place, Warrenville, IL 60555. | Jan. 9, 2020 | 170218
DuPage (FEMA Docket No.: B-1971) | Unincorporated Areas of DuPage County (19-05-2162P). | The Honorable Dan Cronin, Chairman, DuPage County Board, 421 North County Farm Road, Wheaton, IL 60187. | DuPage County Administration Building, Stormwater Management, 421 North County Farm Road, Wheaton, IL 60187. | Jan. 9, 2020 | 170197
Marshall (FEMA Docket No.: B-1971) | City of Wenona (19-05-3185P). | The Honorable Jamie Durham, Mayor, City of Wenona, P.O. Box 601, Wenona, IL 61377. | City Hall, 226 South Chestnut Street, Wenona, IL 61377. | Jan. 9, 2020 | 170462
Marshall (FEMA Docket No.: B-1971) | Unincorporated Areas of Marshall County (19-05-3185P). | The Honorable Gary R. Kroeschen, Chairman, Marshall County Board, P.O. Box 328, Lacon, IL 61540. | Marshall County Courthouse, 122 North Prairie Street, Lacon, IL 61540. | Jan. 9, 2020 | 170994
St. Clair (FEMA Docket No.: B-1960) | City of O'Fallon (18-05-3948P). | The Honorable Herb Roach, Mayor, City of O'Fallon, 255 South Lincoln Avenue, O'Fallon, IL 62269. | City Hall, 255 South Lincoln Avenue, O'Fallon, IL 62269. | Dec. 20, 2019 | 170633
St. Clair (FEMA Docket No.: B-1960) | Unincorporated Areas of St. Clair County (18-05-3948P). | The Honorable Mark Kern, Chairman, St. Clair County Board, 10 Public Square, Belleville, IL 62220. | St. Clair County Courthouse, 10 Public Square, Belleville, IL 62220. | Dec. 20, 2019 | 170616
Iowa:
Polk (FEMA Docket No.: B-1960) | City of Grimes (18-07-2087P). | The Honorable Scott Mikkelsen, Mayor, City of Grimes, City Hall, 101 Northeast Harvey Street, Grimes, IA 50111. | City Hall, 101 Northeast Harvey Street, Grimes, IA 50111. | Dec. 6, 2019 | 190228
Polk (FEMA Docket No.: B-1960) | City of Urbandale (18-07-2087P). | The Honorable Bob Andeweg, Mayor, City of Urbandale, City Hall, 3600 86th Street, Urbandale, IA 50322. | City Hall, 3600 86th Street, Urbandale, IA 50322. | Dec. 6, 2019 | 190230
Kansas:
Shawnee (FEMA Docket No.: B-1960) | City of Topeka (19-07-0967P). | The Honorable Michelle De La Isla, Mayor, City of Topeka, 215 Southeast 7th Street Room 350, Topeka, KS 66603. | Engineering Division, 620 Southeast Madison Street, Topeka, KS 66603. | Dec. 24, 2019 | 205187
Shawnee (FEMA Docket No.: B-1960) | Unincorporated Areas of Shawnee County (19-07-0967P). | Mr. Bob Archer, Chairperson, Shawnee County Board of Commissioners, 200 Southeast 7th Street B-11, Topeka, KS 66603. | Shawnee County Engineers Office, 1515 Northwest Saline Street, Topeka, KS 66618. | Dec. 24, 2019 | 200331
Michigan:
Macomb (FEMA Docket No.: B-1953) | Township of Macomb (18-05-5405P). | Ms. Janet Dunn, Supervisor, Township of Macomb, 54111 Broughton Road, Macomb, MI 48042. | Township Hall, 54111 Broughton Road, Macomb, MI 48042. | Nov. 7, 2019 | 260445
Oakland (FEMA Docket No.: B-1949) | City of Novi (19-05-1154P). | The Honorable Bob Gatt, Mayor, City of Novi, 45175 Ten Mile Road, Novi, MI 48375. | Community Development Office, 45175 Ten Mile Road, Novi, MI 48375. | Oct. 25, 2019 | 260175
Minnesota:
Dakota (FEMA Docket No.: B-1956) | Unincorporated Areas of Dakota County (18-05-5246P). | Mr. Thomas Egan, Chair, Physical Development Committee, Dakota County Board of Commissioners, Dakota County Administration Center, 1590 Highway 55, Hastings, MN 55033. | Dakota County Administration Center, 1590 Highway 55, Hastings, MN 55033. | Nov. 22, 2019 | 270101
Olmsted (FEMA Docket No.: B-1953) | City of Rochester (19-05-0734P). | The Honorable Kim Norton, Mayor, City of Rochester, City Hall, 201 4th Street Southeast, Room 281, Rochester, MN 55904. | City Hall, 201 4th Street Southeast, Rochester, MN 55904. | Oct. 31, 2019 | 275246
Olmsted (FEMA Docket No.: B-1953) | Unincorporated Areas of Olmsted County (19-05-0734P). | Commissioner Jim Bier, Chairperson, Olmsted County Board of Commissioners, 151 4th Street Southeast, Rochester, MN 55904. | Olmsted County Government Center, 151 4th Street Southeast, Rochester, MN 55904. | Oct. 31, 2019 | 270626
Missouri: Jackson (FEMA Docket No.: B-1960) | City of Lee's Summit (19-07-0788P). | The Honorable Bill Baird, Mayor, City of Lee's Summit, 220 Southeast Green Street, Lee's Summit, MO 64063. | Mayor's Office, 220 Southeast Green Street, Lee's Summit, MO 64063. | Dec. 19, 2019 | 290174
Nevada: Clark (FEMA Docket No.: B-1956) | City of North Las Vegas (19-09-0818P). | The Honorable John J. Lee, Mayor, City of North Las Vegas, 2250 Las Vegas Boulevard North, North Las Vegas, NV 89030. | Public Works Department, 2200 Civic Center Drive, North Las Vegas, NV 89030. | Nov. 25, 2019 | 320007
New Jersey: Passaic (FEMA Docket No.: B-1960) | Borough of Woodland Park (19-02-0818P). | The Honorable Keith Kazmark, Mayor, Borough of Woodland Park, Municipal Building, 5 Brophy Lane, Woodland Park, NJ 07424. | Municipal Building, Code Enforcement Office, 5 Brophy Lane, Woodland Park, NJ 07424. | Dec. 13, 2019 | 340412
New Mexico:, San Juan (FEMA Docket No.: B-1956) | City of Farmington (18-06-3856P). | The Honorable Nate Duckett, Mayor, City of Farmington, 800 Municipal Drive, Farmington, NM 87401. | Public Works Department, 805 Municipal Drive, Farmington, NM 87401. | Nov. 26, 2019 | 350067
New York:
Rockland (FEMA Docket No.: B-1953) | Town of Ramapo (19-02-0049P). | The Honorable Michael B. Specht, Supervisor, Town of Ramapo, Town Hall, 237 Route 59, Suffern, NY 10901. | Ramapo Office of the Building Inspector, 237 Route 59, Suffern, NY 10901. | Dec. 20, 2019 | 365340
Wayne (FEMA Docket No.: B-1949) | Town of Walworth (18-02-2086P). | Ms. Susie C. Jacobs, Supervisor, Town of Walworth, 3600 Lorraine Drive, Walworth, NY 14568. | Building Department, 3600 Lorraine Drive, Walworth, NY 14568. | Dec. 6, 2019 | 361228
Ohio:
Franklin (FEMA Docket No.: B-1960) | Unincorporated Areas of Franklin County (19-05-3292P). | Mr. John O'Grady Commissioner, Franklin County Board of Commissioners, 373 South High Street, 26th Floor, Columbus, OH 43215. | Franklin County Engineer Office, 970 Dublin Road, Columbus, OH 43215. | Dec. 20, 2019 | 390167
Hamilton (FEMA Docket No.: B-1953) | City of Cincinnati (19-05-2371P). | The Honorable John Cranley, Mayor, City of Cincinnati, City Hall, 801 Plum Street, Suite 150, Cincinnati, OH 45202. | City Hall, 801 Plum Street, Cincinnati, OH 45202. | Nov. 1, 2019 | 390210
Tuscarawas (FEMA Docket No.: B-1956) | City of New Philadelphia (19-05-1610P). | The Honorable Joel Day, Mayor, City of New Philadelphia, 150 East High Avenue, New Philadelphia, OH 44663. | City Hall, 150 East High Avenue, New Philadelphia, OH 44663. | Nov. 29, 2019 | 390545
Tuscarawas (FEMA Docket No.: B-1956) | Unincorporated Areas of Tuscarawas County (19-05-1610P). | The Honorable Chris Abbuhl, County Commissioner, Tuscarawas County, County Administration Offices, 125 East High Avenue, New Philadelphia, OH 44663. | Tuscarawas County Administration Offices, 125 East High Avenue, New Philadelphia, OH 44663. | Nov. 29, 2019 | 390782
Warren (FEMA Docket No.: B-1960) | City of Springboro (19-05-2468P). | The Honorable John Agenbroad, Mayor, City of Springboro, 320 West Central Avenue, Springboro, OH 45066. | Municipal Building, 320 West Central Avenue, Springboro, OH 45066. | Dec. 12, 2019 | 390564
Oregon:
Clackamas (FEMA Docket No.: B-1949). | City of Happy Valley (19-10-0342P). | The Honorable Tom Ellis, Mayor, City of Happy Valley, City Hall, 16000 Southeast Misty Drive, Happy Valley, OR 97086. | City Hall, 16000 Southeast Misty Drive, Happy Valley, OR 97086. | Nov. 1, 2019 | 410026
Deschutes (FEMA Docket No.: B-1949). | City of Bend (18-10-0360P). | The Honorable Sally Russell, Mayor, City of Bend, 710 Northwest Wall Street, Bend, OR 97703. | City Hall, Planning Department, 710 Northwest Wall Street, Bend, OR 97703. | Oct. 23, 2019 | 410056
Grant (FEMA Docket No.: B-1949) | City of Canyon City (19-10-0438P). | The Honorable Steve Fischer, Mayor, City of Canyon City, City Hall, 123 South Washington Street, Canyon City, OR 97820. | City Hall, 123 South Washington Street, Canyon City, OR 97820. | Oct. 17, 2019 | 410075
Grant (FEMA Docket No.: B-1949) | City of John Day (19-10-0438P). | The Honorable Ron Lundbom, Mayor, City of John Day, City Hall, 450 East Main Street, John Day, OR 97845. | City Hall, 450 East Main Street, John Day, OR 97845. | Oct. 17, 2019 | 410077
Grant (FEMA Docket No.: B-1949) | Unincorporated Areas of Grant County (19-10-0438P). | The Honorable Scott Myers, County Judge, Grant County, Grant County Courthouse, 201 South Humbolt Street, Suite 280, Canyon City, OR 97820. | Grant County Planning Department, 201 South Humbolt Suite 170, Canyon City, OR 97820. | Oct. 17, 2019 | 410074
Texas:
Denton (FEMA Docket No.: B-1949) | City of Carrollton (19-06-1104P). | The Honorable Kevin Falconer, Mayor, City of Carrollton, City Hall, 1945 East Jackson Road, Carrollton, TX 75006. | Engineering Department, 1945 East Jackson Road, Carrollton, TX 75006. | Oct. 24, 2019 | 480167
Denton (FEMA Docket No.: B-1949) | City of Lewisville (19-06-1104P). | The Honorable Rudy Durham, Mayor, City of Lewisville, P.O. Box 299002, Lewisville, TX 75029. | Engineering Division, 151 West Church Street, Lewisville, TX 75057. | Oct. 24, 2019 | 480195
Tarrant (FEMA Docket No.: B-1960) | City of Arlington (18-06-3754P). | The Honorable Jeff Williams, Mayor, City of Arlington, City Hall, P.O. Box 90231, Arlington, TX 76010. | City Hall, 101 West Abram Street, Arlington, TX 76010. | Dec. 6, 2019 | 485454
Tarrant (FEMA Docket No.: B-1953) | City of Arlington (18-06-3755P). | The Honorable Jeff Williams, Mayor, City of Arlington, City Hall, P.O. Box 90231, Arlington, TX 76010. | City Hall, 101 West Abram Street, Arlington, TX 76010. | Nov. 8, 2019 | 485454
Washington:
Jefferson. (FEMA Docket No.: B-1960) | City of Port Townsend (19-10-0775P). | The Honorable Deborah Stinson, Mayor, City of Port Townsend, 250 Madison Street, Suite 2, Port Townsend, WA 98368. | City Hall, 250 Madison Street, Suite 2, Port Townsend, WA 98368. | Dec. 12, 2019 | 530070
Kitsap (FEMA Docket No.: B-1960) | Unincorporated Areas of Kitsap County (18-10-1595P). | The Honorable Ed Wolfe, Kitsap County Commissioner, District 3, 614 Division Street, MS-4, Port Orchard, WA 98366. | Kitsap County, Department of Community Development, 614 Division Street, MS-36, Port Orchard, WA 98366. | Dec. 16, 2019 | 530092
Skagit (FEMA Docket No.: B-1949) | City of Mount Vernon (19-10-0683P). | The Honorable Jill Boudreau, Mayor, City of Mount Vernon, P.O. Box 809, Mount Vernon, WA 98273. | City Hall, 910 Cleveland Avenue, Mount Vernon, WA 98273. | Oct. 25, 2019 | 530158
Wisconsin:
Dane (FEMA Docket No.: B-1949) | Unincorporated Areas of Dane County (18-05-3131P). | Ms. Sharon Corrigan, District 26 Supervisor, City County Building, Room 421, 210 Martin Luther King Jr. Boulevard, Madison, WI 53703. | Dane County Zoning Department, Room 116, 210 Martin Luther King Jr. Boulevard, Madison, WI 53703. | Oct. 24, 2019 | 550077
Ozaukee (FEMA Docket No.: B-1956) | City of Port Washington (18-05-6323P). | The Honorable Martin Becker, Mayor, City of Port Washington, P.O. Box 307, Port Washington, WI 53074. | City Hall, 100 West Grand Avenue, Port Washington, WI 53074. | Dec. 6, 2019 | 550316
Wyoming:
Natrona (FEMA Docket No.: B-1960) | City of Casper (18-08-0276P). | The Honorable Charlie Powell, Mayor, City of Casper, 200 North David Street, Room 203, Casper, WY 82601. | City Hall, 200 North David Street, Casper, WY 82601. | Dec. 27, 2019 | 560037
Natrona (FEMA Docket No.: B-1960) | Unincorporated Areas of Natrona County (18-08-0276P). | Mr. Forrest Chadwick, Commissioner, Natrona County, 200 North Center Street, Suite 115, Casper, WY 82601. | Natrona County, Board of Commissioners, 200 North Center Street, Casper, WY 82601. | Dec. 27, 2019 | 560036

[FR Doc. 2020-01902 Filed 1-31-20; 8:45 am]

BILLING CODE 9110-12-P